DEPARTMENT OF HOUSING AND URBAN DEVELOPMENT

[Docket No. FR-6024-N-01]

Notice of Annual Factors for Determining Public Housing Agency Administrative Fees for the Section 8 Housing Choice Voucher, Mainstream, and Moderate Rehabilitation Programs

AGENCY: Office of the Assistant Secretary for Public and Indian Housing, HUD.

ACTION: Notice.

SUMMARY: This Notice announces the monthly per unit fee rates for use in determining the on-going administrative fees for housing agencies administering the Housing Choice Voucher (HCV), 5 Year Mainstream, and Moderate Rehabilitation programs, including Single Room Occupancy, during calendar year (CY) 2017.

DATES: Effective Date: January 1, 2017.

FOR FURTHER INFORMATION CONTACT: Miguel Fontanez, Director, Housing Voucher Financial Management Division, Office of Public Housing and Voucher Programs, Office of Public and Indian Housing, Department of Housing and Urban Development, Room 4222, 451 Seventh Street SW., Washington, DC 20410-8000, telephone number 202-402-2934. (This is not a toll-free number). Hearing or speech impaired individuals may call TTY number 1 (800) 877-8337.

SUPPLEMENTARY INFORMATION:

A. Background

This Notice provides the Department's methodology used to determine the CY 2017 administrative fee rates by area, which the Office of Housing Voucher Programs (OHVP) will use to compensate public housing agencies (PHA) for administering the HCV programs.

B. CY 2017 Methodology

For CY 2017, in accordance with the Consolidated Appropriation Act, 2017 (Pub. L. 115-31), administrative fees will be earned on the basis of vouchers leased as of the first day of each month. This data will be extracted from the Voucher Management System (VMS) at the close of each reporting cycle and validated prior to use.

Two fee rates are provided for each PHA. The first rate, Column A, applies to the first 7200 voucher unit months leased in CY 2017. The second rate, Column B, applies to all remaining voucher unit months leased in CY 2017.

The fee rates established for CY 2017, using the standard procedures, in some cases resulted in fee rates lower than those established for CY 2016. In those cases, the affected PHAs are being held harmless at the CY 2016 fee rates.

The fee rates for each PHA are generally those rates covering the fee areas in which each PHA has the greatest proportion of its participants, based on Public Housing Information Center (PIC) data submitted by the PHA. In some cases, PHAs have participants in more than one fee area. If such a PHA so chooses, the PHA may request that the Department establish a blended fee rate schedule that will consider proportionately all areas in which participants are located. Once a blended rate schedule is established, it will be used to determine the PHA's fee eligibility for all months in CY 2017. The PHAs were advised via PIH Notice 2017-07, and other electronic communications on June 9 and June 13, 2017, about the terms for applying for blended fee rates and the deadline date for submitting such requests.

PHAs that operate over a large geographic area, defined as multiple counties, may request a higher administrative fee rate if eligible under the circumstance. The PHAs were advised via PIH Notice 2017-07, and via electronic communication on June 13, 2017, about the terms for applying for higher fee rates and the deadline date for submitting such requests. This information will also be described in the CY 2017 funding implementation notice.

Accordingly, the Department issues the monthly per voucher unit fee rates to be used to determine PHA administrative fee eligibility for the programs identified in this Notice. These fee rates are posted on HUD's Web site at: http://portal.hud.gov/hudportal/HUD?src=/program_offices/public_indian_housing/programs/hcv., under Program Related Information.

Any questions concerning this Notice should be directed to the PHA's assigned representative at the Financial Management Center or to the Financial Management Division at PIH.Financial.Management.Division@hud.gov.

C. MTW Agencies

Where an MTW Agency has an alternative formula for calculating HCV Administrative Fees in Attachment A of their MTW Agreements, HUD will continue to calculate the HCV Administrative Fees in accordance with that MTW Agreement provision.

Dated: June 15, 2017.
Jemine A. Bryon,
General Deputy Assistant Secretary for Public and Indian Housing.

PHA | Column A rate | Column B rate
AK901 | $94.54 | $88.24
AL001 | 63.85 | 59.59
AL002 | 64.86 | 60.54
AL004 | 63.01 | 58.81
AL005 | 65.15 | 60.80
AL006 | 63.01 | 58.81
AL007 | 63.01 | 58.81
AL008 | 62.21 | 58.06
AL011 | 62.21 | 58.06
AL012 | 63.01 | 58.81
AL014 | 62.21 | 58.06
AL047 | 64.87 | 60.56
AL048 | 63.01 | 58.81
AL049 | 63.01 | 58.81
AL050 | 63.01 | 58.81
AL052 | 62.21 | 58.06
AL053 | 62.21 | 58.06
AL054 | 63.01 | 58.81
AL060 | 62.21 | 58.06
AL061 | 63.01 | 58.81
AL063 | 63.85 | 59.59
AL068 | 63.01 | 58.81
AL069 | 63.85 | 59.59
AL072 | 63.85 | 59.59
AL073 | 62.36 | 58.19
AL075 | 62.21 | 58.06
AL077 | 63.01 | 58.81
AL086 | 63.85 | 59.59
AL090 | 62.21 | 58.06
AL091 | 62.21 | 58.06
AL099 | 62.21 | 58.06
AL105 | 62.21 | 58.06
AL107 | 62.21 | 58.06
AL112 | 62.21 | 58.06
AL114 | 62.21 | 58.06
AL115 | 62.21 | 58.06
AL116 | 62.21 | 58.06
AL118 | 62.21 | 58.06
AL121 | 62.21 | 58.06
AL124 | 62.36 | 58.19
AL125 | 63.85 | 59.59
AL129 | 63.01 | 58.81
AL131 | 63.01 | 58.81
AL138 | 63.01 | 58.81
AL139 | 63.01 | 58.81
AL152 | 63.01 | 58.81
AL154 | 62.21 | 58.06
AL155 | 62.21 | 58.06
AL160 | 62.21 | 58.06
AL165 | 65.80 | 61.42
AL169 | 64.86 | 60.54
AL171 | 62.21 | 58.06
AL172 | 63.01 | 58.81
AL174 | 62.21 | 58.06
AL177 | 62.21 | 58.06
AL181 | 62.21 | 58.06
AL192 | 62.21 | 58.06
AL202 | 64.86 | 60.54
AR002 | 68.06 | 63.53
AR003 | 62.38 | 58.22
AR004 | 68.06 | 63.53
AR006 | 68.06 | 63.53
AR010 | 59.67 | 55.69
AR012 | 59.67 | 55.69
AR015 | 61.30 | 57.22
AR016 | 59.67 | 55.69
AR017 | 62.38 | 58.22
AR020 | 59.68 | 55.70
AR024 | 64.27 | 59.98
AR031 | 62.38 | 58.22
AR033 | 59.67 | 55.69
AR034 | 62.38 | 58.22
AR035 | 59.67 | 55.69
AR037 | 59.67 | 55.69
AR039 | 59.67 | 55.69
AR041 | 68.06 | 63.53
AR042 | 62.38 | 58.22
AR045 | 59.67 | 55.69
AR052 | 59.67 | 55.69
AR059 | 59.67 | 55.69
AR066 | 59.67 | 55.69
AR068 | 59.67 | 55.69
AR082 | 59.67 | 55.69
AR104 | 62.38 | 58.22
AR117 | 59.67 | 55.69
AR121 | 59.67 | 55.69
AR131 | 62.38 | 58.22
AR135 | 59.67 | 55.69
AR152 | 59.67 | 55.69
AR161 | 59.67 | 55.69
AR163 | 62.38 | 58.22
AR166 | 59.67 | 55.69
AR170 | 68.06 | 63.53
AR175 | 68.06 | 63.53
AR176 | 59.67 | 55.69
AR177 | 59.67 | 55.69
AR181 | 62.38 | 58.22
AR194 | 62.38 | 58.22
AR197 | 59.67 | 55.69
AR200 | 59.67 | 55.69
AR210 | 59.67 | 55.69
AR211 | 59.67 | 55.69
AR213 | 59.67 | 55.69
AR214 | 59.67 | 55.69
AR215 | 59.67 | 55.69
AR219 | 68.06 | 63.53
AR223 | 59.67 | 55.69
AR224 | 59.67 | 55.69
AR225 | 59.67 | 55.69
AR232 | 62.38 | 58.22
AR240 | 59.67 | 55.69
AR241 | 62.38 | 58.22
AR247 | 59.67 | 55.69
AR252 | 68.06 | 63.53
AR257 | 59.67 | 55.69
AR264 | 64.27 | 59.98
AR265 | 59.67 | 55.69
AR266 | 59.67 | 55.69
AZ001 | 68.71 | 64.12
AZ003 | 68.71 | 64.12
AZ004 | 67.92 | 63.39
AZ005 | 68.71 | 64.12
AZ006 | 75.12 | 70.12
AZ008 | 54.47 | 50.84
AZ009 | 68.71 | 64.12
AZ010 | 68.71 | 64.12
AZ013 | 76.33 | 71.24
AZ021 | 68.71 | 64.12
AZ023 | 57.39 | 53.57
AZ025 | 67.92 | 63.39
AZ028 | 68.71 | 64.12
AZ031 | 68.71 | 64.12
AZ032 | 68.71 | 64.12
AZ033 | 67.92 | 63.39
AZ034 | 56.45 | 52.68
AZ035 | 76.33 | 71.24
AZ037 | 56.45 | 52.68
AZ041 | 75.12 | 70.12
AZ043 | 91.99 | 85.87
AZ045 | 56.44 | 52.68
AZ880 | 68.71 | 64.12
AZ901 | 75.12 | 70.12
C0921 | 72.68 | 67.84
CA001 | 117.52 | 109.70
CA002 | 117.52 | 109.70
CA003 | 117.52 | 109.70
CA004 | 117.52 | 109.70
CA005 | 89.25 | 83.30
CA006 | 81.89 | 76.42
CA007 | 89.25 | 83.30
CA008 | 89.56 | 83.59
CA009 | 93.76 | 87.51
CA010 | 117.52 | 109.70
CA011 | 117.52 | 109.70
CA014 | 117.52 | 109.70
CA019 | 93.76 | 87.51
CA021 | 114.76 | 107.09
CA022 | 93.76 | 87.51
CA023 | 76.94 | 71.82
CA024 | 85.64 | 79.94
CA026 | 86.24 | 80.48
CA027 | 93.76 | 87.51
CA028 | 81.89 | 76.42
CA030 | 76.36 | 71.28
CA031 | 117.52 | 109.70
CA032 | 117.52 | 109.70
CA033 | 101.25 | 94.49
CA035 | 117.52 | 109.70
CA039 | 85.21 | 79.53
CA041 | 102.03 | 95.22
CA043 | 78.70 | 73.45
CA044 | 89.25 | 83.30
CA048 | 67.53 | 63.03
CA052 | 117.52 | 109.70
CA053 | 73.91 | 68.98
CA055 | 102.03 | 95.22
CA056 | 117.52 | 109.70
CA058 | 117.52 | 109.70
CA059 | 117.52 | 109.70
CA060 | 117.52 | 109.70
CA061 | 78.25 | 73.04
CA062 | 117.52 | 109.70
CA063 | 105.08 | 98.06
CA064 | 101.74 | 94.95
CA065 | 102.03 | 95.22
CA066 | 102.03 | 95.22
CA067 | 117.52 | 109.70
CA068 | 117.52 | 109.70
CA069 | 81.89 | 76.42
CA070 | 71.62 | 66.84
CA071 | 117.52 | 109.70
CA072 | 117.52 | 109.70
CA073 | 102.03 | 95.22
CA074 | 117.52 | 109.70
CA075 | 117.52 | 109.70
CA076 | 114.76 | 107.09
CA077 | 105.08 | 98.06
CA079 | 117.52 | 109.70
CA082 | 117.52 | 109.70
CA084 | 84.34 | 78.72
CA085 | 114.62 | 106.99
CA086 | 80.61 | 75.23
CA088 | 114.62 | 106.99
CA092 | 117.52 | 109.70
CA093 | 117.52 | 109.70
CA094 | 117.52 | 109.70
CA096 | 81.89 | 76.42
CA102 | 117.52 | 109.70
CA103 | 117.52 | 109.70
CA104 | 117.52 | 109.70
CA105 | 117.52 | 109.70
CA106 | 81.89 | 76.42
CA108 | 105.08 | 98.06
CA110 | 117.52 | 109.70
CA111 | 117.52 | 109.70
CA114 | 117.52 | 109.70
CA116 | 105.08 | 98.06
CA117 | 117.52 | 109.70
CA118 | 117.52 | 109.70
CA119 | 117.52 | 109.70
CA120 | 117.52 | 109.70
CA121 | 117.52 | 109.70
CA123 | 117.52 | 109.70
CA125 | 102.03 | 95.22
CA126 | 117.52 | 109.70
CA128 | 89.25 | 83.30
CA131 | 102.03 | 95.22
CA132 | 105.08 | 98.06
CA136 | 117.52 | 109.70
CA143 | 85.21 | 79.53
CA144 | 78.25 | 73.04
CA149 | 89.25 | 83.30
CA151 | 89.25 | 83.30
CA155 | 105.08 | 98.06
CO001 | 72.68 | 67.84
CO002 | 67.14 | 62.66
CO005 | 74.90 | 69.91
CO006 | 64.12 | 59.84
CO016 | 82.48 | 76.97
CO019 | 72.68 | 67.84
CO024 | 64.12 | 59.84
CO028 | 67.80 | 63.28
CO031 | 64.12 | 59.84
CO034 | 78.15 | 72.95
CO035 | 67.39 | 62.91
CO036 | 72.68 | 67.84
CO040 | 99.01 | 92.42
CO041 | 78.15 | 72.95
CO043 | 74.90 | 69.91
CO045 | 64.12 | 59.84
CO048 | 72.68 | 67.84
CO049 | 72.68 | 67.84
CO050 | 72.68 | 67.84
CO051 | 85.02 | 79.36
CO052 | 72.68 | 67.84
CO057 | 72.68 | 67.84
CO058 | 72.68 | 67.84
CO061 | 82.48 | 76.97
CO070 | 82.48 | 76.97
CO071 | 67.80 | 63.28
CO072 | 72.68 | 67.84
CO079 | 74.90 | 69.91
CO087 | 99.01 | 92.42
CO090 | 67.39 | 62.91
CO095 | 94.68 | 88.37
CO101 | 64.12 | 59.84
CO103 | 78.15 | 72.95
CO888 | 67.14 | 62.66
CO911 | 72.68 | 67.84
CT001 | 94.56 | 88.26
CT002 | 101.36 | 94.61
CT003 | 89.13 | 83.18
CT004 | 98.24 | 91.69
CT005 | 89.13 | 83.18
CT006 | 80.21 | 74.86
CT007 | 101.36 | 94.61
CT008 | 89.13 | 83.18
CT009 | 89.13 | 83.18
CT010 | 78.30 | 73.08
CT011 | 98.24 | 91.69
CT013 | 89.13 | 83.18
CT015 | 94.56 | 88.26
CT017 | 94.56 | 88.26
CT018 | 87.49 | 81.66
CT019 | 101.36 | 94.61
CT020 | 101.36 | 94.61
CT023 | 89.13 | 83.18
CT024 | 78.30 | 73.08
CT026 | 89.13 | 83.18
CT027 | 94.56 | 88.26
CT028 | 89.13 | 83.18
CT029 | 98.24 | 91.69
CT030 | 94.56 | 88.26
CT031 | 78.30 | 73.08
CT032 | 89.13 | 83.18
CT033 | 89.13 | 83.18
CT036 | 89.13 | 83.18
CT038 | 89.13 | 83.18
CT039 | 89.13 | 83.18
CT040 | 89.13 | 83.18
CT041 | 89.13 | 83.18
CT042 | 98.24 | 91.69
CT047 | 80.21 | 74.86
CT048 | 89.13 | 83.18
CT049 | 89.13 | 83.18
CT051 | 89.13 | 83.18
CT052 | 94.56 | 88.26
CT053 | 89.13 | 83.18
CT058 | 78.30 | 73.08
CT061 | 78.30 | 73.08
CT063 | 98.24 | 91.69
CT067 | 98.24 | 91.69
CT068 | 89.13 | 83.18
CT901 | 89.13 | 83.18
DC001 | 109.86 | 102.54
DC880 | 109.86 | 102.54
DE001 | 87.60 | 81.76
DE002 | 77.36 | 72.20
DE003 | 87.60 | 81.76
DE005 | 87.60 | 81.76
DE901 | 77.36 | 72.20
FL001 | 69.40 | 64.77
FL002 | 73.26 | 68.37
FL003 | 73.26 | 68.37
FL004 | 76.52 | 71.41
FL005 | 99.42 | 92.80
FL007 | 73.44 | 68.55
FL008 | 80.41 | 75.05
FL009 | 77.64 | 72.46
FL010 | 93.09 | 86.88
FL011 | 60.98 | 56.91
FL013 | 102.09 | 95.30
FL015 | 65.21 | 60.85
FL017 | 99.42 | 92.80
FL018 | 59.57 | 55.60
FL019 | 70.64 | 65.94
FL020 | 70.64 | 65.94
FL021 | 77.64 | 72.46
FL022 | 73.44 | 68.55
FL023 | 80.41 | 75.05
FL024 | 73.44 | 68.55
FL025 | 70.64 | 65.94
FL026 | 60.98 | 56.91
FL028 | 93.09 | 86.88
FL030 | 73.44 | 68.55
FL031 | 59.38 | 55.42
FL032 | 60.04 | 56.03
FL033 | 76.52 | 71.41
FL034 | 73.26 | 68.37
FL035 | 59.57 | 55.60
FL037 | 69.40 | 64.77
FL041 | 78.05 | 72.85
FL045 | 78.05 | 72.85
FL046 | 59.57 | 55.60
FL047 | 77.02 | 71.90
FL049 | 59.38 | 55.42
FL053 | 60.04 | 56.03
FL057 | 59.38 | 55.42
FL060 | 75.01 | 70.01
FL062 | 73.26 | 68.37
FL063 | 65.84 | 61.45
FL066 | 99.42 | 92.80
FL068 | 99.42 | 92.80
FL069 | 59.57 | 55.60
FL070 | 65.84 | 61.45
FL071 | 60.98 | 56.91
FL072 | 73.44 | 68.55
FL073 | 65.21 | 60.85
FL075 | 73.26 | 68.37
FL079 | 93.09 | 86.88
FL080 | 77.64 | 72.46
FL081 | 93.09 | 86.88
FL083 | 77.64 | 72.46
FL092 | 60.04 | 56.03
FL093 | 76.52 | 71.41
FL102 | 59.57 | 55.60
FL104 | 73.26 | 68.37
FL105 | 80.41 | 75.05
FL106 | 76.52 | 71.41
FL109 | 59.38 | 55.42
FL110 | 59.57 | 55.60
FL113 | 73.44 | 68.55
FL116 | 93.09 | 86.88
FL119 | 77.64 | 72.46
FL123 | 74.91 | 69.92
FL128 | 77.02 | 71.90
FL132 | 77.76 | 72.60
FL136 | 93.09 | 86.88
FL137 | 73.26 | 68.37
FL139 | 60.98 | 56.91
FL141 | 80.15 | 74.81
FL144 | 102.09 | 95.30
FL145 | 99.42 | 92.80
FL147 | 59.57 | 55.60
FL201 | 76.52 | 71.41
FL202 | 59.38 | 55.42
FL881 | 99.42 | 92.80
FL888 | 73.26 | 68.37
GA001 | 65.15 | 60.80
GA002 | 65.15 | 60.80
GA004 | 65.15 | 60.80
GA006 | 79.43 | 74.12
GA007 | 65.15 | 60.80
GA009 | 65.15 | 60.80
GA010 | 79.43 | 74.12
GA011 | 79.43 | 74.12
GA023 | 65.15 | 60.80
GA062 | 65.15 | 60.80
GA078 | 79.43 | 74.12
GA095 | 79.43 | 74.12
GA116 | 79.43 | 74.12
GA188 | 79.43 | 74.12
GA228 | 79.43 | 74.12
GA232 | 79.43 | 74.12
GA237 | 79.43 | 74.12
GA264 | 79.43 | 74.12
GA269 | 79.43 | 74.12
GA285 | 65.15 | 60.80
GA901 | 79.43 | 74.12
GQ901 | 110.80 | 103.42
HI002 | 104.28 | 97.33
HI003 | 116.83 | 109.05
HI004 | 116.84 | 109.06
HI005 | 117.45 | 109.63
HI901 | 116.83 | 109.05
IA002 | 63.16 | 58.95
IA004 | 66.41 | 61.98
IA015 | 63.16 | 58.95
IA018 | 66.63 | 62.18
IA020 | 76.04 | 70.98
IA022 | 77.51 | 72.35
IA023 | 67.39 | 62.90
IA024 | 73.62 | 68.71
IA030 | 63.16 | 58.95
IA038 | 73.91 | 68.98
IA042 | 63.16 | 58.95
IA045 | 70.55 | 65.85
IA047 | 63.16 | 58.95
IA049 | 63.16 | 58.95
IA050 | 73.91 | 68.98
IA054 | 63.16 | 58.95
IA056 | 63.16 | 58.95
IA057 | 63.16 | 58.95
IA084 | 63.16 | 58.95
IA087 | 68.13 | 63.59
IA098 | 66.55 | 62.12
IA100 | 63.16 | 58.95
IA107 | 63.16 | 58.95
IA108 | 63.16 | 58.95
IA113 | 73.91 | 68.98
IA114 | 63.16 | 58.95
IA117 | 67.39 | 62.90
IA119 | 63.16 | 58.95
IA120 | 76.04 | 70.98
IA122 | 63.16 | 58.95
IA124 | 63.16 | 58.95
IA125 | 63.16 | 58.95
IA126 | 70.55 | 65.85
IA127 | 63.16 | 58.95
IA128 | 63.16 | 58.95
IA129 | 63.16 | 58.95
IA130 | 63.16 | 58.95
IA131 | 76.04 | 70.98
IA132 | 73.91 | 68.98
IA136 | 63.44 | 59.21
ID005 | 63.82 | 59.56
ID013 | 79.30 | 74.02
ID016 | 79.30 | 74.02
ID021 | 79.30 | 74.02
ID901 | 69.01 | 64.42
IL002 | 93.41 | 87.17
IL003 | 73.76 | 68.84
IL004 | 67.22 | 62.73
IL006 | 65.83 | 61.45
IL009 | 70.55 | 65.85
IL010 | 70.55 | 65.85
IL011 | 59.05 | 55.12
IL012 | 63.60 | 59.36
IL014 | 69.94 | 65.28
IL015 | 63.72 | 59.46
IL016 | 58.47 | 54.57
IL018 | 70.55 | 65.85
IL020 | 70.55 | 65.85
IL022 | 67.08 | 62.60
IL024 | 93.41 | 87.17
IL025 | 93.41 | 87.17
IL026 | 93.41 | 87.17
IL028 | 67.22 | 62.73
IL030 | 63.72 | 59.46
IL032 | 69.94 | 65.28
IL034 | 65.83 | 61.45
IL035 | 69.94 | 65.28
IL036 | 59.05 | 55.12
IL037 | 58.47 | 54.57
IL038 | 58.47 | 54.57
IL039 | 63.73 | 59.49
IL040 | 58.47 | 54.57
IL042 | 58.47 | 54.57
IL043 | 58.47 | 54.57
IL050 | 59.05 | 55.12
IL051 | 65.60 | 61.23
IL052 | 58.47 | 54.57
IL053 | 59.05 | 55.12
IL054 | 93.41 | 87.17
IL056 | 93.41 | 87.17
IL057 | 58.47 | 54.57
IL059 | 58.47 | 54.57
IL061 | 59.16 | 55.21
IL074 | 63.72 | 59.46
IL076 | 58.47 | 54.57
IL079 | 58.47 | 54.57
IL082 | 58.47 | 54.57
IL083 | 67.08 | 62.60
IL084 | 62.02 | 57.88
IL085 | 59.69 | 55.72
IL086 | 62.02 | 57.88
IL087 | 58.47 | 54.57
IL088 | 58.47 | 54.57
IL089 | 74.02 | 69.09
IL090 | 93.41 | 87.17
IL091 | 58.47 | 54.57
IL092 | 93.41 | 87.17
IL095 | 68.57 | 64.00
IL096 | 58.47 | 54.57
IL101 | 93.41 | 87.17
IL103 | 93.41 | 87.17
IL104 | 73.76 | 68.84
IL107 | 93.41 | 87.17
IL116 | 93.41 | 87.17
IL117 | 65.60 | 61.23
IL120 | 58.47 | 54.57
IL122 | 67.08 | 62.60
IL123 | 58.47 | 54.57
IL124 | 73.76 | 68.84
IL126 | 59.05 | 55.12
IL130 | 93.41 | 87.17
IL131 | 70.55 | 65.85
IL136 | 93.41 | 87.17
IL137 | 94.21 | 87.92
IL901 | 93.41 | 87.17
IN002 | 50.20 | 46.85
IN003 | 55.64 | 51.94
IN004 | 51.82 | 48.37
IN005 | 51.82 | 48.37
IN006 | 61.51 | 57.41
IN007 | 54.12 | 50.52
IN009 | 50.20 | 46.85
IN010 | 67.92 | 63.40
IN011 | 67.92 | 63.40
IN012 | 59.53 | 55.56
IN015 | 54.76 | 51.11
IN016 | 53.77 | 50.19
IN017 | 61.51 | 57.41
IN018 | 50.20 | 46.85
IN019 | 53.65 | 50.07
IN020 | 54.76 | 51.11
IN021 | 51.82 | 48.37
IN022 | 55.13 | 51.47
IN023 | 59.53 | 55.56
IN025 | 59.53 | 55.56
IN026 | 53.76 | 50.18
IN029 | 67.92 | 63.40
IN031 | 50.20 | 46.85
IN032 | 51.10 | 47.70
IN035 | 51.82 | 48.37
IN037 | 53.77 | 50.19
IN041 | 50.20 | 46.85
IN043 | 50.20 | 46.85
IN047 | 50.20 | 46.85
IN048 | 50.20 | 46.85
IN050 | 50.20 | 46.85
IN055 | 51.10 | 47.70
IN056 | 52.55 | 49.04
IN058 | 56.14 | 52.41
IN060 | 50.20 | 46.85
IN062 | 53.89 | 50.31
IN067 | 50.20 | 46.85
IN071 | 59.41 | 55.44
IN073 | 50.20 | 46.85
IN077 | 51.10 | 47.70
IN078 | 52.55 | 49.04
IN079 | 61.51 | 57.41
IN080 | 61.51 | 57.41
IN084 | 50.20 | 46.85
IN086 | 50.20 | 46.85
IN091 | 50.20 | 46.85
IN092 | 50.20 | 46.85
IN094 | 51.95 | 48.48
IN100 | 54.76 | 51.11
IN101 | 53.76 | 50.18
IN901 | 61.51 | 57.41
KS001 | 61.94 | 57.81
KS002 | 57.92 | 54.07
KS004 | 62.40 | 58.24
KS006 | 54.75 | 51.10
KS017 | 54.75 | 51.10
KS038 | 54.75 | 51.10
KS041 | 54.75 | 51.10
KS043 | 61.94 | 57.81
KS053 | 64.01 | 59.74
KS062 | 54.75 | 51.10
KS063 | 54.75 | 51.10
KS068 | 61.94 | 57.81
KS073 | 62.40 | 58.24
KS091 | 54.75 | 51.10
KS149 | 54.75 | 51.10
KS159 | 61.94 | 57.81
KS161 | 54.75 | 51.10
KS162 | 61.94 | 57.81
KS165 | 54.75 | 51.10
KS166 | 54.75 | 51.10
KS167 | 54.75 | 51.10
KS168 | 54.75 | 51.10
KS169 | 62.40 | 58.24
KS170 | 54.75 | 51.10
KY001 | 59.53 | 55.56
KY003 | 54.78 | 51.13
KY004 | 65.93 | 61.53
KY007 | 53.77 | 50.19
KY008 | 53.77 | 50.19
KY009 | 59.53 | 55.56
KY011 | 65.10 | 60.76
KY012 | 53.77 | 50.19
KY015 | 66.88 | 62.41
KY017 | 53.77 | 50.19
KY021 | 53.77 | 50.19
KY022 | 53.77 | 50.19
KY026 | 53.77 | 50.19
KY027 | 53.77 | 50.19
KY035 | 53.77 | 50.19
KY040 | 53.77 | 50.19
KY047 | 53.77 | 50.19
KY053 | 53.77 | 50.19
KY056 | 53.77 | 50.19
KY061 | 65.93 | 61.53
KY071 | 59.78 | 55.79
KY086 | 53.77 | 50.19
KY107 | 53.77 | 50.19
KY121 | 53.77 | 50.19
KY132 | 59.55 | 55.58
KY133 | 66.88 | 62.41
KY135 | 66.88 | 62.41
KY136 | 66.88 | 62.41
KY137 | 53.77 | 50.19
KY138 | 53.77 | 50.19
KY140 | 65.93 | 61.53
KY141 | 53.77 | 50.19
KY142 | 59.96 | 55.96
KY150 | 53.77 | 50.19
KY157 | 53.77 | 50.19
KY160 | 53.77 | 50.19
KY161 | 59.96 | 55.96
KY163 | 53.77 | 50.19
KY169 | 53.77 | 50.19
KY171 | 59.53 | 55.56
KY901 | 65.93 | 61.53
LA001 | 69.89 | 65.22
LA002 | 68.42 | 63.87
LA003 | 75.46 | 70.43
LA004 | 65.31 | 60.95
LA005 | 65.31 | 60.95
LA006 | 65.31 | 60.95
LA009 | 75.46 | 70.43
LA012 | 69.89 | 65.22
LA013 | 69.89 | 65.22
LA023 | 65.31 | 60.95
LA024 | 64.69 | 60.38
LA029 | 65.31 | 60.95
LA031 | 64.69 | 60.38
LA032 | 65.31 | 60.95
LA033 | 64.69 | 60.38
LA036 | 64.69 | 60.38
LA037 | 69.72 | 65.08
LA046 | 65.31 | 60.95
LA057 | 65.31 | 60.95
LA063 | 65.31 | 60.95
LA067 | 64.69 | 60.38
LA074 | 64.69 | 60.38
LA075 | 65.31 | 60.95
LA086 | 64.69 | 60.38
LA094 | 69.89 | 65.22
LA097 | 64.69 | 60.38
LA099 | 65.31 | 60.95
LA101 | 75.46 | 70.43
LA103 | 69.89 | 65.22
LA104 | 65.31 | 60.95
LA111 | 64.69 | 60.38
LA114 | 64.69 | 60.38
LA115 | 64.69 | 60.38
LA120 | 65.31 | 60.95
LA122 | 65.31 | 60.95
LA125 | 64.69 | 60.38
LA128 | 64.69 | 60.38
LA129 | 65.31 | 60.95
LA132 | 64.69 | 60.38
LA159 | 64.69 | 60.38
LA163 | 64.69 | 60.38
LA165 | 65.31 | 60.95
LA166 | 64.69 | 60.38
LA168 | 65.31 | 60.95
LA169 | 64.69 | 60.38
LA171 | 65.31 | 60.95
LA172 | 65.31 | 60.95
LA173 | 65.31 | 60.95
LA174 | 65.31 | 60.95
LA178 | 65.31 | 60.95
LA179 | 65.31 | 60.95
LA181 | 69.89 | 65.22
LA182 | 64.69 | 60.38
LA184 | 68.42 | 63.87
LA186 | 65.31 | 60.95
LA187 | 69.89 | 65.22
LA188 | 64.69 | 60.38
LA189 | 65.31 | 60.95
LA190 | 68.42 | 63.87
LA192 | 64.69 | 60.38
LA194 | 66.92 | 62.47
LA195 | 64.69 | 60.38
LA196 | 65.31 | 60.95
LA199 | 75.46 | 70.43
LA202 | 75.46 | 70.43
LA204 | 75.46 | 70.43
LA205 | 75.46 | 70.43
LA206 | 65.31 | 60.95
LA207 | 65.31 | 60.95
LA211 | 66.92 | 62.47
LA212 | 64.69 | 60.38
LA213 | 69.72 | 65.08
LA214 | 65.31 | 60.95
LA215 | 64.69 | 60.38
LA217 | 64.69 | 60.38
LA219 | 75.46 | 70.43
LA220 | 64.69 | 60.38
LA222 | 64.69 | 60.38
LA229 | 64.69 | 60.38
LA230 | 68.42 | 63.87
LA232 | 64.69 | 60.38
LA233 | 64.69 | 60.38
LA238 | 69.89 | 65.22
LA241 | 64.69 | 60.38
LA242 | 64.69 | 60.38
LA246 | 64.69 | 60.38
LA247 | 64.69 | 60.38
LA248 | 64.69 | 60.38
LA253 | 66.92 | 62.47
LA257 | 64.69 | 60.38
LA258 | 64.69 | 60.38
LA266 | 65.31 | 60.95
LA888 | 68.42 | 63.87
LA889 | 69.89 | 65.22
LA903 | 69.89 | 65.22
MA001 | 112.39 | 104.91
MA002 | 121.48 | 113.37
MA003 | 121.48 | 113.37
MA005 | 112.39 | 104.91
MA006 | 110.58 | 103.21
MA007 | 112.39 | 104.91
MA008 | 112.39 | 104.91
MA010 | 112.39 | 104.91
MA012 | 112.39 | 104.91
MA013 | 121.48 | 113.37
MA014 | 121.48 | 113.37
MA015 | 121.48 | 113.37
MA016 | 121.48 | 113.37
MA017 | 121.48 | 113.37
MA018 | 110.58 | 103.21
MA019 | 121.48 | 113.37
MA020 | 121.48 | 113.37
MA022 | 121.48 | 113.37
MA023 | 121.48 | 113.37
MA024 | 112.39 | 104.91
MA025 | 121.48 | 113.37
MA026 | 112.39 | 104.91
MA027 | 121.48 | 113.37
MA028 | 121.48 | 113.37
MA029 | 112.39 | 104.91
MA031 | 121.48 | 113.37
MA032 | 121.48 | 113.37
MA033 | 121.48 | 113.37
MA034 | 112.39 | 104.91
MA035 | 112.39 | 104.91
MA036 | 121.48 | 113.37
MA037 | 112.39 | 104.91
MA039 | 112.39 | 104.91
MA040 | 121.48 | 113.37
MA041 | 112.39 | 104.91
MA042 | 121.48 | 113.37
MA043 | 112.39 | 104.91
MA044 | 121.48 | 113.37
MA045 | 121.48 | 113.37
MA046 | 121.76 | 113.65
MA047 | 121.76 | 113.65
MA048 | 121.48 | 113.37
MA050 | 112.39 | 104.91
MA051 | 112.39 | 104.91
MA053 | 121.48 | 113.37
MA054 | 121.48 | 113.37
MA055 | 121.48 | 113.37
MA056 | 121.48 | 113.37
MA057 | 121.48 | 113.37
MA059 | 121.48 | 113.37
MA060 | 112.39 | 104.91
MA061 | 121.48 | 113.37
MA063 | 121.48 | 113.37
MA065 | 121.48 | 113.37
MA066 | 112.39 | 104.91
MA067 | 121.48 | 113.37
MA069 | 121.48 | 113.37
MA070 | 121.48 | 113.37
MA071 | 121.48 | 113.37
MA072 | 121.48 | 113.37
MA073 | 121.48 | 113.37
MA074 | 121.48 | 113.37
MA075 | 121.48 | 113.37
MA076 | 112.39 | 104.91
MA077 | 112.39 | 104.91
MA078 | 112.39 | 104.91
MA079 | 112.39 | 104.91
MA080 | 112.39 | 104.91
MA081 | 112.39 | 104.91
MA082 | 112.39 | 104.91
MA084 | 112.39 | 104.91
MA085 | 112.39 | 104.91
MA086 | 112.39 | 104.91
MA087 | 112.39 | 104.91
MA088 | 112.39 | 104.91
MA089 | 121.48 | 113.37
MA090 | 121.48 | 113.37
MA091 | 121.48 | 113.37
MA092 | 121.48 | 113.37
MA093 | 121.48 | 113.37
MA094 | 112.36 | 104.88
MA095 | 121.76 | 113.65
MA096 | 112.36 | 104.88
MA098 | 121.48 | 113.37
MA099 | 121.48 | 113.37
MA100 | 112.39 | 104.91
MA101 | 121.48 | 113.37
MA105 | 112.39 | 104.91
MA106 | 112.39 | 104.91
MA107 | 112.39 | 104.91
MA108 | 112.39 | 104.91
MA109 | 121.48 | 113.37
MA110 | 121.48 | 113.37
MA111 | 121.48 | 113.37
MA112 | 121.48 | 113.37
MA116 | 121.48 | 113.37
MA117 | 121.48 | 113.37
MA118 | 121.48 | 113.37
MA119 | 121.48 | 113.37
MA121 | 121.48 | 113.37
MA122 | 112.39 | 104.91
MA123 | 112.39 | 104.91
MA125 | 121.48 | 113.37
MA127 | 112.39 | 104.91
MA133 | 121.48 | 113.37
MA134 | 121.48 | 113.37
MA135 | 121.48 | 113.37
MA138 | 121.76 | 113.65
MA139 | 112.39 | 104.91
MA140 | 121.48 | 113.37
MA147 | 121.48 | 113.37
MA154 | 121.48 | 113.37
MA155 | 121.48 | 113.37
MA165 | 121.48 | 113.37
MA170 | 110.58 | 103.21
MA172 | 112.39 | 104.91
MA174 | 121.48 | 113.37
MA180 | 121.76 | 113.65
MA181 | 121.76 | 113.65
MA188 | 112.39 | 104.91
MA880 | 121.48 | 113.37
MA881 | 112.39 | 104.91
MA882 | 112.39 | 104.91
MA883 | 112.39 | 104.91
MA901 | 121.48 | 113.37
MD001 | 82.12 | 76.64
MD002 | 82.12 | 76.64
MD003 | 109.86 | 102.54
MD004 | 109.86 | 102.54
MD006 | 64.42 | 60.11
MD007 | 109.86 | 102.54
MD009 | 62.09 | 57.95
MD013 | 73.88 | 68.94
MD014 | 73.80 | 68.88
MD015 | 109.86 | 102.54
MD016 | 87.60 | 81.76
MD018 | 82.12 | 76.64
MD019 | 73.88 | 68.94
MD021 | 93.15 | 86.94
MD022 | 109.86 | 102.54
MD023 | 82.12 | 76.64
MD024 | 109.86 | 102.54
MD025 | 82.12 | 76.64
MD027 | 82.12 | 76.64
MD028 | 64.42 | 60.11
MD029 | 87.60 | 81.76
MD032 | 82.12 | 76.64
MD033 | 82.12 | 76.64
MD034 | 82.12 | 76.64
MD901 | 102.33 | 95.52
ME001 | 62.92 | 58.73
ME002 | 62.92 | 58.73
ME003 | 99.94 | 93.29
ME004 | 62.92 | 58.73
ME005 | 71.52 | 66.74
ME006 | 76.42 | 71.32
ME007 | 71.52 | 66.74
ME008 | 66.15 | 61.74
ME009 | 72.59 | 67.76
ME011 | 87.93 | 82.06
ME015 | 99.94 | 93.29
ME018 | 72.59 | 67.76
ME019 | 80.10 | 74.74
ME020 | 99.94 | 93.29
ME021 | 72.59 | 67.76
ME025 | 62.92 | 58.73
ME027 | 64.59 | 60.29
ME028 | 87.93 | 82.06
ME030 | 66.15 | 61.74
ME901 | 61.77 | 57.64
MI001 | 65.26 | 60.91
MI003 | 65.26 | 60.91
MI005 | 65.26 | 60.91
MI006 | 55.81 | 52.09
MI008 | 65.26 | 60.91
MI009 | 56.18 | 52.42
MI010 | 56.89 | 53.10
MI019 | 53.87 | 50.27
MI020 | 53.87 | 50.27
MI023 | 53.87 | 50.27
MI027 | 65.26 | 60.91
MI030 | 53.87 | 50.27
MI031 | 61.60 | 57.50
MI032 | 56.89 | 53.10
MI035 | 58.82 | 54.90
MI036 | 53.87 | 50.27
MI037 | 65.26 | 60.91
MI038 | 56.40 | 52.65
MI039 | 65.26 | 60.91
MI040 | 65.26 | 60.91
MI044 | 65.26 | 60.91
MI045 | 65.26 | 60.91
MI047 | 53.87 | 50.27
MI048 | 65.26 | 60.91
MI049 | 53.87 | 50.27
MI050 | 53.87 | 50.27
MI051 | 65.26 | 60.91
MI052 | 65.26 | 60.91
MI055 | 65.26 | 60.91
MI058 | 62.57 | 58.40
MI059 | 65.26 | 60.91
MI060 | 57.78 | 53.92
MI061 | 58.14 | 54.27
MI063 | 53.87 | 50.27
MI064 | 77.76 | 72.57
MI066 | 61.60 | 57.50
MI070 | 57.78 | 53.92
MI073 | 61.60 | 57.50
MI074 | 58.14 | 54.27
MI080 | 59.79 | 55.81
MI084 | 57.78 | 53.92
MI087 | 57.78 | 53.92
MI089 | 65.26 | 60.91
MI093 | 61.60 | 57.50
MI094 | 53.87 | 50.27
MI096 | 65.26 | 60.91
MI097 | 65.26 | 60.91
MI100 | 65.26 | 60.91
MI112 | 53.87 | 50.27
MI115 | 61.60 | 57.50
MI117 | 53.87 | 50.27
MI119 | 53.87 | 50.27
MI120 | 56.89 | 53.10
MI121 | 58.14 | 54.27
MI132 | 53.87 | 50.27
MI139 | 65.26 | 60.91
MI157 | 65.26 | 60.91
MI167 | 62.57 | 58.40
MI168 | 62.57 | 58.40
MI178 | 53.87 | 50.27
MI186 | 53.87 | 50.27
MI194 | 62.57 | 58.40
MI198 | 61.60 | 57.50
MI880 | 62.57 | 58.40
MI901 | 65.26 | 60.91
MN001 | 85.68 | 79.97
MN002 | 85.68 | 79.97
MN003 | 63.38 | 59.15
MN006 | 58.78 | 54.86
MN007 | 63.38 | 59.15
MN008 | 57.97 | 54.10
MN009 | 57.97 | 54.10
MN017 | 73.30 | 68.41
MN018 | 57.97 | 54.10
MN021 | 71.41 | 66.64
MN032 | 57.97 | 54.10
MN034 | 57.97 | 54.10
MN037 | 58.02 | 54.15
MN038 | 65.28 | 60.93
MN049 | 57.97 | 54.10
MN063 | 63.65 | 59.41
MN067 | 85.68 | 79.97
MN073 | 63.38 | 59.15
MN077 | 63.24 | 59.03
MN085 | 57.97 | 54.10
MN090 | 57.97 | 54.10
MN101 | 57.97 | 54.10
MN107 | 57.97 | 54.10
MN128 | 57.97 | 54.10
MN144 | 85.68 | 79.97
MN147 | 85.68 | 79.97
MN151 | 70.94 | 66.23
MN152 | 85.68 | 79.97
MN153 | 57.97 | 54.10
MN154 | 57.97 | 54.10
MN158 | 71.41 | 66.64
MN161 | 60.82 | 56.76
MN163 | 85.68 | 79.97
MN164 | 73.30 | 68.41
MN166 | 57.97 | 54.10
MN167 | 63.65 | 59.41
MN168 | 60.82 | 56.76
MN169 | 57.97 | 54.10
MN170 | 85.68 | 79.97
MN171 | 60.33 | 56.30
MN172 | 65.28 | 60.93
MN173 | 57.97 | 54.10
MN174 | 57.97 | 54.10
MN176 | 57.97 | 54.10
MN177 | 57.97 | 54.10
MN178 | 60.82 | 56.76
MN179 | 57.97 | 54.10
MN180 | 57.97 | 54.10
MN182 | 57.97 | 54.10
MN184 | 85.68 | 79.97
MN188 | 57.97 | 54.10
MN190 | 57.97 | 54.10
MN191 | 57.97 | 54.10
MN192 | 57.97 | 54.10
MN193 | 65.14 | 60.80
MN197 | 57.97 | 54.10
MN200 | 57.97 | 54.10
MN203 | 60.82 | 56.76
MN212 | 85.68 | 79.97
MN216 | 85.68 | 79.97
MN219 | 63.65 | 59.41
MN220 | 63.24 | 59.03
MN801 | 85.68 | 79.97
MN802 | 85.68 | 79.97
MN803 | 85.68 | 79.97
MO001 | 63.72 | 59.46
MO002 | 61.94 | 57.81
MO003 | 60.90 | 56.84
MO004 | 63.72 | 59.46
MO006 | 63.72 | 59.46
MO007 | 60.90 | 56.84
MO008 | 60.34 | 56.32
MO009 | 60.90 | 56.84
MO010 | 60.34 | 56.32
MO014 | 60.90 | 56.84
MO016 | 60.34 | 56.32
MO017 | 61.94 | 57.81
MO030 | 61.94 | 57.81
MO037 | 60.34 | 56.32
MO040 | 60.34 | 56.32
MO053 | 61.94 | 57.81
MO058 | 60.90 | 56.84
MO064 | 60.34 | 56.32
MO065 | 60.34 | 56.32
MO072 | 60.34 | 56.32
MO074 | 60.34 | 56.32
MO107 | 60.34 | 56.32
MO129 | 60.34 | 56.32
MO133 | 60.34 | 56.32
MO145 | 60.34 | 56.32
MO149 | 60.34 | 56.32
MO188 | 60.90 | 56.84
MO190 | 60.34 | 56.32
MO192 | 60.34 | 56.32
MO193 | 61.94 | 57.81
MO196 | 61.94 | 57.81
MO197 | 61.94 | 57.81
MO198 | 60.90 | 56.84
MO199 | 63.72 | 59.46
MO200 | 60.34 | 56.32
MO203 | 60.90 | 56.84
MO204 | 61.94 | 57.81
MO205 | 63.72 | 59.46
MO206 | 60.34 | 56.32
MO207 | 60.34 | 56.32
MO209 | 60.34 | 56.32
MO210 | 61.94 | 57.81
MO212 | 60.34 | 56.32
MO213 | 61.94 | 57.81
MO215 | 60.90 | 56.84
MO216 | 60.90 | 56.84
MO217 | 60.34 | 56.32
MO227 | 63.72 | 59.46
MS004 | 61.07 | 57.00
MS005 | 63.40 | 59.17
MS006 | 61.07 | 57.00
MS016 | 64.27 | 59.98
MS019 | 61.07 | 57.00
MS030 | 61.07 | 57.00
MS040 | 63.40 | 59.17
MS057 | 61.07 | 57.00
MS058 | 74.81 | 69.81
MS095 | 61.07 | 57.00
MS103 | 74.81 | 69.81
MS107 | 61.07 | 57.00
MS128 | 61.07 | 57.00
MS301 | 63.40 | 59.17
MT001 | 81.97 | 76.51
MT002 | 72.57 | 67.74
MT003 | 67.71 | 63.19
MT004 | 78.73 | 73.48
MT006 | 63.78 | 59.54
MT015 | 69.11 | 64.49
MT033 | 73.78 | 68.85
MT036 | 69.11 | 64.49
MT901 | 81.97 | 76.51
NC001 | 63.01 | 58.81
NC002 | 75.28 | 70.26
NC003 | 69.04 | 64.43
NC004 | 59.43 | 55.47
NC006 | 65.21 | 60.87
NC007 | 63.01 | 58.81
NC008 | 69.04 | 64.43
NC009 | 64.05 | 59.77
NC011 | 65.21 | 60.87
NC012 | 65.21 | 60.87
NC013 | 75.28 | 70.26
NC014 | 59.43 | 55.47
NC015 | 63.01 | 58.81
NC018 | 59.43 | 55.47
NC019 | 63.01 | 58.81
NC020 | 59.43 | 55.47
NC021 | 75.28 | 70.26
NC022 | 63.01 | 58.81
NC025 | 59.43 | 55.47
NC032 | 59.43 | 55.47
NC035 | 59.99 | 55.99
NC039 | 62.03 | 57.91
NC050 | 62.48 | 58.31
NC056 | 66.39 | 61.97
NC057 | 69.04 | 64.43
NC059 | 65.21 | 60.87
NC065 | 69.04 | 64.43
NC070 | 65.68 | 61.29
NC071 | 62.03 | 57.91
NC072 | 65.40 | 61.04
NC075 | 59.43 | 55.47
NC077 | 59.43 | 55.47
NC081 | 65.21 | 60.87
NC087 | 63.01 | 58.81
NC089 | 59.43 | 55.47
NC098 | 63.01 | 58.81
NC102 | 65.68 | 61.29
NC104 | 75.28 | 70.26
NC118 | 59.43 | 55.47
NC120 | 75.28 | 70.26
NC134 | 65.68 | 61.29
NC137 | 63.01 | 58.81
NC138 | 59.43 | 55.47
NC139 | 59.43 | 55.47
NC140 | 63.01 | 58.81
NC141 | 59.43 | 55.47
NC144 | 63.01 | 58.81
NC145 | 59.43 | 55.47
NC146 | 59.43 | 55.47
NC147 | 63.01 | 58.81
NC149 | 59.43 | 55.47
NC150 | 59.43 | 55.47
NC151 | 59.94 | 55.95
NC152 | 63.01 | 58.81
NC155 | 59.43 | 55.47
NC159 | 66.39 | 61.97
NC160 | 59.43 | 55.47
NC161 | 59.43 | 55.47
NC163 | 62.48 | 58.31
NC164 | 75.28 | 70.26
NC165 | 59.43 | 55.47
NC166 | 59.43 | 55.47
NC167 | 60.54 | 56.51
NC173 | 63.01 | 58.81
NC175 | 63.01 | 58.81
NC901 | 59.43 | 55.47
ND001 | 73.30 | 68.41
ND002 | 71.41 | 66.64
ND003 | 71.41 | 66.64
ND009 | 71.41 | 66.64
ND010 | 73.46 | 68.56
ND011 | 71.41 | 66.64
ND012 | 71.41 | 66.64
ND013 | 71.41 | 66.64
ND014 | 73.30 | 68.41
ND015 | 71.41 | 66.64
ND016 | 71.41 | 66.64
ND017 | 71.41 | 66.64
ND019 | 71.41 | 66.64
ND021 | 73.46 | 68.56
ND022 | 71.41 | 66.64
ND024 | 71.41 | 66.64
ND025 | 71.41 | 66.64
ND026 | 71.41 | 66.64
ND028 | 71.41 | 66.64
ND030 | 71.41 | 66.64
ND031 | 71.41 | 66.64
ND035 | 71.41 | 66.64
ND036 | 71.41 | 66.64
ND037 | 71.41 | 66.64
ND038 | 71.41 | 66.64
ND039 | 71.41 | 66.64
ND040 | 71.41 | 66.64
ND044 | 71.41 | 66.64
ND049 | 71.41 | 66.64
ND052 | 71.41 | 66.64
ND054 | 71.41 | 66.64
ND055 | 71.41 | 66.64
ND057 | 71.41 | 66.64
ND070 | 71.41 | 66.64
ND901 | 73.46 | 68.56
NE001 | 67.39 | 62.90
NE002 | 66.51 | 62.07
NE003 | 66.29 | 61.87
NE004 | 65.64 | 61.27
NE010 | 65.64 | 61.27
NE041 | 65.64 | 61.27
NE078 | 65.64 | 61.27
NE083 | 65.64 | 61.27
NE094 | 65.64 | 61.27
NE100 | 65.64 | 61.27
NE104 | 65.64 | 61.27
NE114 | 65.64 | 61.27
NE120 | 65.64 | 61.27
NE123 | 65.64 | 61.27
NE141 | 65.64 | 61.27
NE143 | 65.64 | 61.27
NE150 | 65.64 | 61.27
NE153 | 67.39 | 62.90
NE157 | 65.64 | 61.27
NE174 | 67.39 | 62.90
NE175 | 66.63 | 62.18
NE179 | 65.64 | 61.27
NE180 | 65.64 | 61.27
NE181 | 65.64 | 61.27
NE182 | 65.64 | 61.27
NH001 | 89.58 | 83.60
NH002 | 95.17 | 88.82
NH003 | 92.76 | 86.58
NH004 | 92.76 | 86.58
NH005 | 102.26 | 95.43
NH006 | 92.76 | 86.58
NH007 | 80.54 | 75.17
NH008 | 92.76 | 86.58
NH009 | 83.14 | 77.59
NH010 | 95.56 | 89.19
NH011 | 73.30 | 68.42
NH012 | 78.08 | 72.88
NH013 | 92.76 | 86.58
NH014 | 92.76 | 86.58
NH015 | 73.30 | 68.42
NH016 | 73.30 | 68.42
NH022 | 112.39 | 104.91
NH888 | 95.17 | 88.82
NH901 | 89.58 | 83.60
NJ002 | 106.81 | 99.67
NJ003 | 106.81 | 99.67
NJ004 | 91.16 | 85.09
NJ006 | 109.38 | 102.10
NJ007 | 107.08 | 99.94
NJ008 | 107.08 | 99.94
NJ009 | 91.16 | 85.09
NJ010 | 87.60 | 81.76
NJ011 | 109.38 | 102.10
NJ012 | 91.16 | 85.09
NJ013 | 109.38 | 102.10
NJ014 | 90.32 | 84.31
NJ015 | 91.16 | 85.09
NJ021 | 109.38 | 102.10
NJ022 | 109.38 | 102.10
NJ023 | 106.81 | 99.67
NJ025 | 106.81 | 99.67
NJ026 | 91.16 | 85.09
NJ030 | 91.16 | 85.09
NJ032 | 106.81 | 99.67
NJ033 | 109.38 | 102.10
NJ035 | 109.38 | 102.10
NJ036 | 91.16 | 85.09
NJ037 | 106.81 | 99.67
NJ039 | 106.81 | 99.67
NJ042 | 109.38 | 102.10
NJ043 | 109.38 | 102.10
NJ044 | 109.38 | 102.10
NJ046 | 107.08 | 99.94
NJ047 | 109.38 | 102.10
NJ048 | 107.08 | 99.94
NJ049 | 86.83 | 81.04
NJ050 | 106.81 | 99.67
NJ051 | 87.60 | 81.76
NJ052 | 106.81 | 99.67
NJ054 | 107.08 | 99.94
NJ055 | 109.38 | 102.10
NJ056 | 107.08 | 99.94
NJ058 | 87.60 | 81.76
NJ059 | 90.32 | 84.31
NJ060 | 107.08 | 99.94
NJ061 | 86.83 | 81.04
NJ063 | 86.83 | 81.04
NJ065 | 107.08 | 99.94
NJ066 | 106.81 | 99.67
NJ067 | 109.38 | 102.10
NJ068 | 106.81 | 99.67
NJ070 | 109.38 | 102.10
NJ071 | 109.38 | 102.10
NJ073 | 87.60 | 81.76
NJ074 | 87.60 | 81.76
NJ075 | 109.38 | 102.10
NJ077 | 91.16 | 85.09
NJ081 | 107.08 | 99.94
NJ083 | 91.16 | 85.09
NJ084 | 109.38 | 102.10
NJ086 | 106.81 | 99.67
NJ088 | 106.81 | 99.67
NJ089 | 109.38 | 102.10
NJ090 | 109.38 | 102.10
NJ092 | 106.81 | 99.67
NJ095 | 107.08 | 99.94
NJ097 | 109.38 | 102.10
NJ099 | 106.81 | 99.67
NJ102 | 106.81 | 99.67
NJ105 | 106.81 | 99.67
NJ106 | 109.38 | 102.10
NJ108 | 106.81 | 99.67
NJ109 | 106.81 | 99.67
NJ110 | 109.38 | 102.10
NJ112 | 109.38 | 102.10
NJ113 | 106.81 | 99.67
NJ114 | 109.38 | 102.10
NJ118 | 87.60 | 81.76
NJ204 | 87.60 | 81.76
NJ212 | 104.94 | 97.94
NJ214 | 107.08 | 99.94
NJ215 | 87.60 | 81.76
NJ880 | 107.08 | 99.94
NJ881 | 109.38 | 102.10
NJ882 | 106.81 | 99.67
NJ902 | 104.94 | 97.94
NJ912 | 106.81 | 99.67
NM001 | 75.73 | 70.68
NM002 | 58.68 | 54.77
NM003 | 60.10 | 56.09
NM006 | 75.82 | 70.76
NM009 | 89.62 | 83.63
NM020 | 59.37 | 55.41
NM030 | 58.68 | 54.77
NM033 | 58.68 | 54.77
NM039 | 58.68 | 54.77
NM050 | 89.62 | 83.63
NM057 | 75.73 | 70.68
NM061 | 58.68 | 54.77
NM063 | 59.37 | 55.41
NM066 | 74.52 | 69.55
NM067 | 58.68 | 54.77
NM077 | 75.73 | 70.68
NM088 | 62.57 | 58.40
NV001 | 78.96 | 73.70
NV018 | 88.70 | 82.79
NV905 | 78.96 | 73.70
NY001 | 70.73 | 66.02
NY002 | 66.11 | 61.71
NY003 | 110.10 | 102.77
NY005 | 95.71 | 89.32
NY006 | 64.75 | 60.45
NY009 | 76.86 | 71.74
NY012 | 76.86 | 71.74
NY015 | 76.86 | 71.74
NY016 | 67.07 | 62.60
NY017 | 59.01 | 55.07
NY018 | 62.55 | 58.38
NY019 | 64.75 | 60.45
NY020 | 76.86 | 71.74
NY021 | 68.12 | 63.58
NY022 | 76.86 | 71.74
NY023 | 110.10 | 102.77
NY025 | 76.86 | 71.74
NY027 | 70.73 | 66.02
NY028 | 76.86 | 71.74
NY033 | 76.86 | 71.74
NY034 | 64.75 | 60.45
NY035 | 110.10 | 102.77
NY041 | 80.92 | 75.53
NY042 | 110.10 | 102.77
NY044 | 80.92 | 75.53
NY045 | 86.57 | 80.79
NY048 | 55.97 | 52.24
NY049 | 98.37 | 91.82
NY050 | 110.10 | 102.77
NY051 | 98.37 | 91.82
NY054 | 75.60 | 70.57
NY057 | 110.10 | 102.77
NY059 | 64.75 | 60.45
NY060 | 71.68 | 66.91
NY061 | 64.61 | 60.31
NY062 | 98.37 | 91.82
NY065 | 65.46 | 61.10
NY066 | 65.96 | 61.57
NY067 | 62.43 | 58.26
NY068 | 61.17 | 57.08
NY070 | 66.11 | 61.71
NY071 | 73.14 | 68.26
NY073 | 72.77 | 67.92
NY077 | 110.10 | 102.77
NY079 | 72.77 | 67.92
NY084 | 95.71 | 89.32
NY085 | 110.10 | 102.77
NY086 | 110.10 | 102.77
NY087 | 60.15 | 56.14
NY088 | 110.10 | 102.77
NY089 | 80.92 | 75.53
NY091 | 66.11 | 61.71
NY094 | 110.10 | 102.77
NY098 | 71.68 | 66.91
NY102 | 70.73 | 66.02
NY103 | 86.57 | 80.79
NY107 | 70.73 | 66.02
NY109 | 64.75 | 60.45
NY110 | 95.71 | 89.32
NY111 | 110.10 | 102.77
NY113 | 110.10 | 102.77
NY114 | 95.71 | 89.32
NY117 | 110.10 | 102.77
NY120 | 110.10 | 102.77
NY121 | 110.10 | 102.77
NY123 | 110.10 | 102.77
NY125 | 98.37 | 91.82
NY127 | 110.10 | 102.77
NY128 | 110.10 | 102.77
NY130 | 110.10 | 102.77
NY132 | 110.10 | 102.77
NY134 | 98.37 | 91.82
NY137 | 98.37 | 91.82
NY138 | 95.71 | 89.32
NY141 | 110.10 | 102.77
NY146 | 110.10 | 102.77
NY147 | 110.10 | 102.77
NY148 | 95.71 | 89.32
NY149 | 110.10 | 102.77
NY151 | 110.10 | 102.77
NY152 | 110.10 | 102.77
NY154 | 110.10 | 102.77
NY155 | 110.10 | 102.77
NY158 | 98.37 | 91.82
NY159 | 110.10 | 102.77
NY160 | 95.71 | 89.32
NY165 | 110.10 | 102.77
NY176 | 110.10 | 102.77
NY402 | 68.30 | 63.74
NY403 | 55.71 | 52.00
NY404 | 66.11 | 61.71
NY405 | 66.11 | 61.71
NY406 | 80.92 | 75.53
NY408 | 76.86 | 71.74
NY409 | 66.11 | 61.71
NY413 | 71.68 | 66.91
NY416 | 76.86 | 71.74
NY417 | 64.75 | 60.45
NY421 | 76.86 | 71.74
NY422 | 76.86 | 71.74
NY424 | 76.86 | 71.74
NY427 | 76.86 | 71.74
NY428 | 76.86 | 71.74
NY430 | 76.86 | 71.74
NY431 | 76.86 | 71.74
NY433 | 55.97 | 52.24
NY443 | 64.75 | 60.45
NY447 | 76.86 | 71.74
NY449 | 66.11 | 61.71
NY501 | 76.86 | 71.74
NY503 | 76.86 | 71.74
NY504 | 70.73 | 66.02
NY505 | 67.07 | 62.60
NY512 | 76.86 | 71.74
NY513 | 76.86 | 71.74
NY516 | 76.86 | 71.74
NY519 | 76.86 | 71.74
NY521 | 70.73 | 66.02
NY522 | 60.15 | 56.14
NY527 | 70.73 | 66.02
NY529 | 86.57 | 80.79
NY530 | 71.68 | 66.91
NY532 | 76.86 | 71.74
NY534 | 64.75 | 60.45
NY535 | 76.86 | 71.74
NY538 | 76.86 | 71.74
NY541 | 61.17 | 57.08
NY552 | 64.75 | 60.45
NY557 | 76.86 | 71.74
NY561 | 76.86 | 71.74
NY562 | 76.86 | 71.74
NY564 | 76.86 | 71.74
NY630 | 76.86 | 71.74
NY888 | 110.10 | 102.77
NY889 | 59.01 | 55.07
NY891 | 110.10 | 102.77
NY892 | 110.10 | 102.77
NY895 | 110.10 | 102.77
NY904 | 110.10 | 102.77
NY912 | 66.11 | 61.71
OH001 | 65.51 | 61.14
OH002 | 59.49 | 55.52
OH003 | 69.07 | 64.45
OH004 | 66.88 | 62.41
OH005 | 61.01 | 56.94
OH006 | 68.65 | 64.07
OH007 | 67.94 | 63.41
OH008 | 59.49 | 55.52
OH009 | 56.65 | 52.87
OH010 | 56.65 | 52.87
OH012 | 69.07 | 64.45
OH014 | 59.90 | 55.90
OH015 | 66.88 | 62.41
OH016 | 58.53 | 54.63
OH018 | 58.53 | 54.63
OH019 | 59.96 | 55.96
OH020 | 57.20 | 53.39
OH021 | 61.01 | 56.94
OH022 | 61.01 | 56.94
OH024 | 56.65 | 52.87
OH025 | 69.07 | 64.45
OH026 | 57.58 | 53.74
OH027 | 69.07 | 64.45
OH028 | 60.32 | 56.30
OH029 | 66.85 | 62.38
OH030 | 56.65 | 52.87
OH031 | 67.94 | 63.41
OH032 | 57.28 | 53.46
OH033 | 56.65 | 52.87
OH034 | 57.28 | 53.46
OH035 | 56.65 | 52.87
OH036 | 56.91 | 53.12
OH037 | 56.65 | 52.87
OH038 | 66.88 | 62.41
OH039 | 56.65 | 52.87
OH040 | 56.65 | 52.87
OH041 | 56.65 | 52.87
OH042 | 69.07 | 64.45
OH043 | 65.51 | 61.14
OH044 | 59.49 | 55.52
OH045 | 56.65 | 52.87
OH046 | 56.65 | 52.87
OH047 | 56.65 | 52.87
OH049 | 66.88 | 62.41
OH050 | 56.65 | 52.87
OH053 | 56.65 | 52.87
OH054 | 59.03 | 55.10
OH056 | 56.65 | 52.87
OH058 | 56.65 | 52.87
OH059 | 65.51 | 61.14
OH060 | 56.65 | 52.87
OH061 | 57.95 | 54.09
OH062 | 61.01 | 56.94
OH063 | 56.65 | 52.87
OH066 | 56.65 | 52.87
OH067 | 56.65 | 52.87
OH069 | 56.65 | 52.87
OH070 | 65.51 | 61.14
OH071 | 68.65 | 64.07
OH072 | 56.65 | 52.87
OH073 | 69.07 | 64.45
OH074 | 58.24 | 54.35
OH075 | 56.65 | 52.87
OH076 | 56.65 | 52.87
OH077 | 56.65 | 52.87
OH078 | 56.65 | 52.87
OH079 | 65.51 | 61.14
OH080 | 58.03 | 54.16
OH081 | 58.53 | 54.63
OH082 | 56.79 | 53.00
OH083 | 65.51 | 61.14
OH085 | 68.65 | 64.07
OH086 | 56.65 | 52.87
OH880 | 69.07 | 64.45
OH882 | 69.07 | 64.45
OK002 | 62.72 | 58.54
OK005 | 61.01 | 56.95
OK006 | 59.92 | 55.93
OK024 | 59.92 | 55.93
OK027 | 59.92 | 55.93
OK032 | 59.92 | 55.93
OK033 | 61.01 | 56.95
OK044 | 59.92 | 55.93
OK062 | 59.92 | 55.93
OK067 | 59.92 | 55.93
OK073 | 61.01 | 56.95
OK095 | 61.60 | 57.50
OK096 | 59.92 | 55.93
OK099 | 59.92 | 55.93
OK111 | 59.92 | 55.93
OK118 | 59.92 | 55.93
OK139 | 62.72 | 58.54
OK142 | 61.01 | 56.95
OK146 | 59.92 | 55.93
OK148 | 61.60 | 57.50
OK901 | 62.72 | 58.54
OR001 | 78.11 | 72.89
OR002 | 78.11 | 72.89
OR003 | 80.82 | 75.44
OR005 | 75.22 | 70.21
OR006 | 89.76 | 83.78
OR007 | 77.33 | 72.17
OR008 | 83.86 | 78.27
OR011 | 83.86 | 78.27
OR014 | 83.86 | 78.27
OR015 | 89.17 | 83.23
OR016 | 78.11 | 72.89
OR017 | 73.82 | 68.90
OR019 | 79.29 | 74.00
OR020 | 80.82 | 75.44
OR022 | 78.11 | 72.89
OR026 | 81.81 | 76.36
OR027 | 73.82 | 68.90
OR028 | 78.11 | 72.89
OR031 | 81.24 | 75.84
OR032 | 77.33 | 72.17
OR034 | 86.22 | 80.47
PA001 | 61.13 | 57.06
PA002 | 87.60 | 81.76
PA003 | 59.27 | 55.32
PA004 | 74.61 | 69.62
PA005 | 61.13 | 57.06
PA006 | 61.13 | 57.06
PA007 | 87.60 | 81.76
PA008 | 76.35 | 71.26
PA009 | 72.76 | 67.90
PA010 | 61.13 | 57.06
PA011 | 74.61 | 69.62
PA012 | 87.60 | 81.76
PA013 | 74.22 | 69.27
PA014 | 61.13 | 57.06
PA015 | 61.13 | 57.06
PA016 | 67.21 | 62.73
PA017 | 61.13 | 57.06
PA018 | 61.13 | 57.06
PA019 | 62.74 | 58.55
PA020 | 68.88 | 64.29
PA021 | 62.74 | 58.55
PA022 | 70.09 | 65.41
PA023 | 87.60 | 81.76
PA024 | 74.61 | 69.62
PA026 | 61.71 | 57.59
PA027 | 58.48 | 54.57
PA028 | 79.57 | 74.27
PA029 | 63.18 | 58.97
PA030 | 59.27 | 55.32
PA031 | 64.61 | 60.30
PA032 | 62.35 | 58.19
PA033 | 61.71 | 57.59
PA034 | 66.66 | 62.21
PA035 | 76.35 | 71.26
PA036 | 77.54 | 72.38
PA037 | 67.21 | 62.73
PA038 | 59.27 | 55.32
PA039 | 71.81 | 67.03
PA041 | 61.56 | 57.46
PA042 | 59.27 | 55.32
PA043 | 59.27 | 55.32
PA044 | 59.27 | 55.32
PA045 | 62.25 | 58.09
PA046 | 87.60 | 81.76
PA047 | 59.27 | 55.32
PA048 | 72.32 | 67.50
PA050 | 60.08 | 56.08
PA051 | 87.60 | 81.76
PA052 | 76.35 | 71.26
PA053 | 62.25 | 58.09
PA054 | 60.90 | 56.83
PA055 | 62.25 | 58.09
PA056 | 59.56 | 55.58
PA057 | 59.27 | 55.32
PA058 | 61.71 | 57.59
PA059 | 59.56 | 55.58
PA060 | 62.25 | 58.09
PA061 | 62.25 | 58.09
PA063 | 62.25 | 58.09
PA064 | 60.08 | 56.08
PA065 | 62.25 | 58.09
PA067 | 74.61 | 69.62
PA068 | 60.08 | 56.08
PA069 | 64.61 | 60.30
PA071 | 72.76 | 67.90
PA073 | 59.27 | 55.32
PA074 | 60.08 | 56.08
PA075 | 76.35 | 71.26
PA076 | 74.61 | 69.62
PA077 | 60.90 | 56.83
PA078 | 96.71 | 90.27
PA079 | 61.71 | 57.59
PA080 | 60.90 | 56.83
PA081 | 74.61 | 69.62
PA082 | 70.44 | 65.74
PA083 | 59.78 | 55.80
PA085 | 58.48 | 54.57
PA086 | 59.56 | 55.58
PA087 | 74.22 | 69.27
PA088 | 83.17 | 77.62
PA089 | 59.56 | 55.58
PA090 | 77.54 | 72.38
PA091 | 70.70 | 65.98
PA092 | 60.22 | 56.21
PA889 | 87.60 | 81.76
RI001 | 110.58 | 103.21
RI002 | 110.58 | 103.21
RI003 | 110.58 | 103.21
RI004 | 110.58 | 103.21
RI005 | 105.64 | 98.59
RI006 | 110.58 | 103.21
RI007 | 110.58 | 103.21
RI008 | 96.15 | 89.74
RI009 | 110.58 | 103.21
RI010 | 110.58 | 103.21
RI011 | 110.58 | 103.21
RI012 | 110.58 | 103.21
RI013 | 105.64 | 98.59
RI014 | 110.58 | 103.21
RI015 | 110.58 | 103.21
RI016 | 110.58 | 103.21
RI017 | 110.58 | 103.21
RI018 | 110.58 | 103.21
RI019 | 110.58 | 103.21
RI020 | 110.58 | 103.21
RI022 | 110.58 | 103.21
RI024 | 110.58 | 103.21
RI026 | 110.58 | 103.21
RI027 | 110.58 | 103.21
RI028 | 110.58 | 103.21
RI029 | 110.58 | 103.21
RI901 | 110.58 | 103.21
RQ006 | 79.49 | 74.19
RQ007 | 73.96 | 69.03
RQ008 | 79.49 | 74.19
RQ009 | 73.96 | 69.03
RQ010 | 73.96 | 69.03
RQ011 | 79.49 | 74.19
RQ012 | 73.96 | 69.03
RQ013 | 79.49 | 74.19
RQ014 | 79.49 | 74.19
RQ015 | 79.49 | 74.19
RQ016 | 79.49 | 74.19
RQ017 | 73.96 | 69.03
RQ018 | 73.96 | 69.03
RQ019 | 79.49 | 74.19
RQ020 | 81.22 | 75.81
RQ021 | 79.49 | 74.19
RQ022 | 79.49 | 74.19
RQ023 | 79.49 | 74.19
RQ024 | 79.49 | 74.19
RQ025 | 79.49 | 74.19
RQ026 | 73.96 | 69.03
RQ027 | 79.49 | 74.19
RQ028 | 79.49 | 74.19
RQ029 | 73.96 | 69.03
RQ030 | 73.96 | 69.03
RQ031 | 73.96 | 69.03
RQ032 | 79.49 | 74.19
RQ033 | 73.96 | 69.03
RQ034 | 79.49 | 74.19
RQ035 | 73.96 | 69.03
RQ036 | 79.49 | 74.19
RQ037 | 73.96 | 69.03
RQ038 | 79.49 | 74.19
RQ039 | 81.22 | 75.81
RQ040 | 81.22 | 75.81
RQ041 | 73.96 | 69.03
RQ042 | 73.96 | 69.03
RQ043 | 73.96 | 69.03
RQ044 | 79.49 | 74.19
RQ045 | 79.49 | 74.19
RQ046 | 73.96 | 69.03
RQ047 | 79.49 | 74.19
RQ048 | 73.96 | 69.03
RQ049 | 79.49 | 74.19
RQ050 | 79.49 | 74.19
RQ052 | 73.96 | 69.03
RQ053 | 79.49 | 74.19
RQ054 | 79.49 | 74.19
RQ055 | 73.96 | 69.03
RQ056 | 79.49 | 74.19
RQ057 | 73.96 | 69.03
RQ058 | 73.96 | 69.03
RQ059 | 73.96 | 69.03
RQ060 | 73.96 | 69.03
RQ061 | 73.96 | 69.03
RQ062 | 73.96 | 69.03
RQ063 | 79.49 | 74.19
RQ064 | 79.49 | 74.19
RQ065 | 73.96 | 69.03
RQ066 | 73.96 | 69.03
RQ067 | 73.96 | 69.03
RQ068 | 73.96 | 69.03
RQ069 | 73.96 | 69.03
RQ070 | 79.49 | 74.19
RQ071 | 73.96 | 69.03
RQ072 | 79.49 | 74.19
RQ073 | 73.96 | 69.03
RQ074 | 73.96 | 69.03
RQ075 | 79.49 | 74.19
RQ076 | 73.96 | 69.03
RQ077 | 79.49 | 74.19
RQ080 | 73.96 | 69.03
RQ081 | 79.49 | 74.19
RQ082 | 79.49 | 74.19
RQ083 | 79.49 | 74.19
RQ901 | 79.49 | 74.19
RQ911 | 79.49 | 74.19
SC001 | 67.85 | 63.33
SC002 | 68.59 | 64.01
SC003 | 62.61 | 58.43
SC004 | 62.61 | 58.43
SC005 | 62.61 | 58.43
SC007 | 65.15 | 60.80
SC008 | 62.61 | 58.43
SC015 | 61.59 | 57.48
SC016 | 62.61 | 58.43
SC018 | 62.61 | 58.43
SC019 | 62.61 | 58.43
SC020 | 62.61 | 58.43
SC021 | 61.59 | 57.48
SC022 | 69.04 | 64.43
SC023 | 62.61 | 58.43
SC024 | 67.85 | 63.33
SC025 | 62.61 | 58.43
SC026 | 63.89 | 59.62
SC027 | 62.61 | 58.43
SC028 | 61.59 | 57.48
SC029 | 62.61 | 58.43
SC030 | 61.59 | 57.48
SC031 | 61.59 | 57.48
SC032 | 62.61 | 58.43
SC033 | 61.59 | 57.48
SC034 | 62.61 | 58.43
SC035 | 61.59 | 57.48
SC036 | 69.04 | 64.43
SC037 | 62.61 | 58.43
SC046 | 69.04 | 64.43
SC056 | 67.85 | 63.33
SC057 | 67.85 | 63.33
SC059 | 61.59 | 57.48
SC911 | 68.59 | 64.01
SD010 | 64.67 | 60.35
SD011 | 61.82 | 57.69
SD014 | 61.82 | 57.69
SD016 | 64.67 | 60.35
SD021 | 61.82 | 57.69
SD026 | 61.82 | 57.69
SD034 | 61.82 | 57.69
SD035 | 67.17 | 62.68
SD036 | 61.82 | 57.69
SD037 | 61.82 | 57.69
SD039 | 64.67 | 60.35
SD043 | 61.82 | 57.69
SD045 | 61.82 | 57.69
SD047 | 61.82 | 57.69
SD048 | 61.82 | 57.69
SD055 | 61.82 | 57.69
SD056 | 61.82 | 57.69
SD057 | 61.82 | 57.69
SD058 | 61.82 | 57.69
SD059 | 61.82 | 57.69
TN001 | 64.27 | 59.98
TN002 | 59.59 | 55.62
TN003 | 59.95 | 55.96
TN004 | 65.15 | 60.80
TN005 | 71.22 | 66.47
TN006 | 59.59 | 55.62
TN007 | 59.59 | 55.62
TN012 | 59.95 | 55.96
TN013 | 58.50 | 54.60
TN020 | 71.22 | 66.47
TN024 | 58.50 | 54.60
TN026 | 58.50 | 54.60
TN035 | 71.22 | 66.47
TN038 | 59.59 | 55.62
TN042 | 58.50 | 54.60
TN054 | 59.59 | 55.62
TN062 | 58.50 | 54.60
TN065 | 59.95 | 55.96
TN066 | 59.59 | 55.62
TN076 | 59.59 | 55.62
TN079 | 71.22 | 66.47
TN088 | 59.95 | 55.96
TN113 | 59.95 | 55.96
TN117 | 65.15 | 60.80
TN903 | 71.22 | 66.47
TQ901 | 116.83 | 109.05
TX001 | 79.75 | 74.44
TX003 | 67.76 | 63.23
TX004 | 76.20 | 71.12
TX005 | 72.34 | 67.53
TX006 | 70.11 | 65.45
TX007 | 62.16 | 58.02
TX008 | 71.48 | 66.71
TX009 | 81.78 | 76.33
TX010 | 61.30 | 57.22
TX011 | 61.30 | 57.22
TX012 | 72.34 | 67.53
TX014 | 61.30 | 57.22
TX016 | 59.15 | 55.21
TX017 | 72.34 | 67.53
TX018 | 61.30 | 57.22
TX019 | 59.15 | 55.21
TX021 | 59.15 | 55.21
TX023 | 70.05 | 65.37
TX025 | 62.16 | 58.02
TX027 | 81.78 | 76.33
TX028 | 61.46 | 57.35
TX029 | 61.46 | 57.35
TX030 | 61.30 | 57.22
TX031 | 79.75 | 74.44
TX032 | 72.34 | 67.53
TX034 | 70.05 | 65.37
TX035 | 59.30 | 55.34
TX037 | 70.05 | 65.37
TX039 | 59.15 | 55.21
TX042 | 59.15 | 55.21
TX044 | 59.15 | 55.21
TX046 | 61.46 | 57.35
TX048 | 59.15 | 55.21
TX049 | 59.15 | 55.21
TX051 | 61.46 | 57.35
TX062 | 61.46 | 57.35
TX064 | 61.46 | 57.35
TX065 | 62.16 | 58.02
TX072 | 59.15 | 55.21
TX073 | 61.46 | 57.35
TX075 | 59.15 | 55.21
TX079 | 61.30 | 57.22
TX081 | 59.15 | 55.21
TX085 | 84.95 | 79.27
TX087 | 79.75 | 74.44
TX095 | 81.78 | 76.33
TX096 | 59.15 | 55.21
TX105 | 59.15 | 55.21
TX111 | 62.74 | 58.55
TX114 | 59.15 | 55.21
TX128 | 81.78 | 76.33
TX134 | 59.15 | 55.21
TX137 | 61.30 | 57.22
TX147 | 59.15 | 55.21
TX152 | 59.15 | 55.21
TX158 | 61.30 | 57.22
TX163 | 71.48 | 66.71
TX164 | 71.48 | 66.71
TX173 | 62.16 | 58.02
TX174 | 71.48 | 66.71
TX175 | 59.15 | 55.21
TX177 | 61.46 | 57.35
TX178 | 59.15 | 55.21
TX183 | 59.15 | 55.21
TX189 | 59.15 | 55.21
TX193 | 70.11 | 65.45
TX197 | 61.30 | 57.22
TX201 | 59.15 | 55.21
TX202 | 61.46 | 57.35
TX206 | 62.16 | 58.02
TX208 | 61.30 | 57.22
TX210 | 61.30 | 57.22
TX217 | 59.15 | 55.21
TX224 | 61.46 | 57.35
TX236 | 61.30 | 57.22
TX242 | 59.15 | 55.21
TX257 | 61.30 | 57.22
TX259 | 79.75 | 74.44
TX263 | 59.15 | 55.21
TX264 | 79.75 | 74.44
TX266 | 79.75 | 74.44
TX272 | 59.15 | 55.21
TX284 | 59.15 | 55.21
TX298 | 59.15 | 55.21
TX300 | 59.15 | 55.21
TX302 | 71.48 | 66.71
TX303 | 70.11 | 65.45
TX309 | 59.15 | 55.21
TX313 | 71.48 | 66.71
TX322 | 79.75 | 74.44
TX327 | 61.30 | 57.22
TX330 | 59.15 | 55.21
TX332 | 59.15 | 55.21
TX335 | 59.15 | 55.21
TX341 | 68.75 | 64.17
TX343 | 70.11 | 65.45
TX349 | 76.20 | 71.12
TX350 | 70.11 | 65.45
TX358 | 59.15 | 55.21
TX372 | 59.15 | 55.21
TX376 | 59.15 | 55.21
TX377 | 79.75 | 74.44
TX378 | 59.30 | 55.34
TX381 | 59.15 | 55.21
TX392 | 81.78 | 76.33
TX395 | 61.11 | 57.04
TX396 | 59.15 | 55.21
TX397 | 59.15 | 55.21
TX421 | 59.15 | 55.21
TX431 | 76.20 | 71.12
TX432 | 67.76 | 63.23
TX433 | 76.20 | 71.12
TX434 | 81.78 | 76.33
TX435 | 81.78 | 76.33
TX436 | 81.78 | 76.33
TX439 | 67.76 | 63.23
TX440 | 72.34 | 67.53
TX441 | 72.34 | 67.53
TX444 | 61.30 | 57.22
TX445 | 61.46 | 57.35
TX447 | 61.46 | 57.35
TX448 | 61.46 | 57.35
TX449 | 59.15 | 55.21
TX452 | 70.11 | 65.45
TX454 | 59.15 | 55.21
TX455 | 78.78 | 73.53
TX456 | 69.90 | 65.24
TX457 | 66.34 | 61.92
TX458 | 61.30 | 57.22
TX459 | 68.75 | 64.17
TX461 | 62.93 | 58.75
TX470 | 61.30 | 57.22
TX472 | 61.30 | 57.22
TX480 | 79.75 | 74.44
TX481 | 61.30 | 57.22
TX482 | 61.30 | 57.22
TX483 | 72.34 | 67.53
TX484 | 78.13 | 72.91
TX485 | 59.15 | 55.21
TX486 | 60.13 | 56.11
TX488 | 59.15 | 55.21
TX493 | 81.78 | 76.33
TX495 | 76.20 | 71.12
TX497 | 61.46 | 57.35
TX498 | 62.74 | 58.55
TX499 | 61.30 | 57.22
TX500 | 59.15 | 55.21
TX505 | 72.34 | 67.53
TX509 | 62.16 | 58.02
TX511 | 59.15 | 55.21
TX512 | 59.15 | 55.21
TX514 | 61.30 | 57.22
TX516 | 59.15 | 55.21
TX519 | 59.15 | 55.21
TX522 | 81.78 | 76.33
TX523 | 62.74 | 58.55
TX526 | 81.93 | 76.47
TX530 | 72.34 | 67.53
TX533 | 81.78 | 76.33
TX534 | 78.78 | 73.53
TX535 | 59.15 | 55.21
TX537 | 59.15 | 55.21
TX542 | 61.30 | 57.22
TX546 | 61.30 | 57.22
TX559 | 81.78 | 76.33
TX560 | 72.34 | 67.53
TX901 | 72.34 | 67.53
UT002 | 66.12 | 61.72
UT003 | 66.12 | 61.72
UT004 | 66.12 | 61.72
UT006 | 71.76 | 66.97
UT007 | 66.12 | 61.72
UT009 | 66.12 | 61.72
UT011 | 66.12 | 61.72
UT014 | 81.63 | 76.18
UT015 | 81.63 | 76.18
UT016 | 81.63 | 76.18
UT020 | 66.12 | 61.72
UT021 | 68.10 | 63.57
UT022 | 66.12 | 61.72
UT025 | 66.12 | 61.72
UT026 | 66.12 | 61.72
UT028 | 81.63 | 76.18
UT029 | 81.63 | 76.18
UT030 | 66.12 | 61.72
UT031 | 71.76 | 66.97
VA001 | 74.51 | 69.54
VA002 | 59.59 | 55.62
VA003 | 74.51 | 69.54
VA004 | 109.86 | 102.54
VA005 | 67.59 | 63.07
VA006 | 74.51 | 69.54
VA007 | 67.59 | 63.07
VA010 | 57.07 | 53.27
VA011 | 59.48 | 55.51
VA012 | 74.51 | 69.54
VA013 | 60.15 | 56.14
VA014 | 60.15 | 56.14
VA015 | 53.69 | 50.11
VA016 | 75.57 | 70.53
VA017 | 74.51 | 69.54
VA018 | 53.69 | 50.11
VA019 | 109.86 | 102.54
VA020 | 67.59 | 63.07
VA021 | 53.69 | 50.11
VA022 | 54.68 | 51.03
VA023 | 54.68 | 51.03
VA024 | 53.69 | 50.11
VA025 | 74.51 | 69.54
VA028 | 109.86 | 102.54
VA030 | 53.69 | 50.11
VA031 | 59.59 | 55.62
VA032 | 59.59 | 55.62
VA034 | 53.69 | 50.11
VA035 | 109.86 | 102.54
VA036 | 75.57 | 70.53
VA037 | 53.82 | 50.23
VA038 | 53.69 | 50.11
VA039 | 74.51 | 69.54
VA040 | 53.69 | 50.11
VA041 | 74.51 | 69.54
VA042 | 59.59 | 55.62
VA044 | 54.66 | 51.01
VA046 | 109.86 | 102.54
VA901 | 67.59 | 63.07
VQ901 | 95.33 | 88.98
VT001 | 91.61 | 85.50
VT002 | 79.33 | 74.04
VT003 | 82.06 | 76.59
VT004 | 81.24 | 75.83
VT005 | 76.06 | 70.99
VT006 | 91.61 | 85.50
VT008 | 76.06 | 70.99
VT009 | 76.88 | 71.75
VT901 | 91.61 | 85.50
WA001 | 95.05 | 88.70
WA002 | 95.05 | 88.70
WA003 | 83.96 | 78.36
WA004 | 79.27 | 73.97
WA005 | 80.71 | 75.35
WA006 | 95.05 | 88.70
WA007 | 64.72 | 60.40
WA008 | 78.11 | 72.89
WA011 | 95.05 | 88.70
WA012 | 73.33 | 68.43
WA013 | 73.55 | 68.64
WA014 | 61.12 | 57.05
WA017 | 63.82 | 59.56
WA018 | 79.27 | 73.97
WA020 | 64.72 | 60.40
WA021 | 73.33 | 68.43
WA024 | 93.13 | 86.90
WA025 | 90.23 | 84.21
WA036 | 83.96 | 78.36
WA039 | 95.05 | 88.70
WA042 | 76.24 | 71.15
WA049 | 86.74 | 80.94
WA054 | 80.71 | 75.35
WA055 | 73.02 | 68.16
WA057 | 79.27 | 73.98
WA061 | 82.50 | 77.00
WA064 | 75.08 | 70.06
WA071 | 66.99 | 62.51
WI001 | 63.38 | 59.15
WI002 | 63.92 | 59.66
WI003 | 71.14 | 66.40
WI006 | 61.16 | 57.08
WI011 | 53.73 | 50.14
WI019 | 52.86 | 49.33
WI020 | 85.68 | 79.97
WI031 | 52.86 | 49.33
WI043 | 53.82 | 50.24
WI045 | 52.86 | 49.33
WI047 | 52.97 | 49.44
WI048 | 52.86 | 49.33
WI060 | 85.68 | 79.97
WI064 | 59.31 | 55.36
WI065 | 53.82 | 50.24
WI068 | 53.73 | 50.14
WI069 | 53.73 | 50.14
WI070 | 52.86 | 49.33
WI083 | 63.92 | 59.66
WI085 | 52.86 | 49.33
WI091 | 52.86 | 49.33
WI096 | 52.86 | 49.33
WI127 | 52.86 | 49.33
WI131 | 52.86 | 49.33
WI142 | 63.92 | 59.66
WI160 | 52.86 | 49.33
WI166 | 52.86 | 49.33
WI183 | 58.39 | 54.49
WI186 | 53.58 | 50.00
WI193 | 52.86 | 49.33
WI195 | 66.10 | 61.69
WI201 | 63.92 | 59.66
WI203 | 59.31 | 55.36
WI204 | 53.73 | 50.14
WI205 | 52.86 | 49.33
WI206 | 52.86 | 49.33
WI208 | 52.86 | 49.33
WI213 | 53.82 | 50.24
WI214 | 71.14 | 66.40
WI218 | 63.92 | 59.66
WI219 | 59.31 | 55.36
WI221 | 52.86 | 49.33
WI222 | 52.86 | 49.33
WI230 | 52.86 | 49.33
WI231 | 52.86 | 49.33
WI233 | 52.86 | 49.33
WI237 | 53.85 | 50.26
WI241 | 52.86 | 49.33
WI242 | 52.86 | 49.33
WI244 | 58.03 | 54.16
WI245 | 52.86 | 49.33
WI246 | 54.06 | 50.45
WI248 | 52.86 | 49.33
WI256 | 52.86 | 49.33
WI901 | 52.86 | 49.33
WV001 | 72.73 | 67.88
WV003 | 57.20 | 53.39
WV004 | 59.96 | 55.96
WV005 | 57.20 | 53.39
WV006 | 60.62 | 56.57
WV009 | 61.26 | 57.18
WV010 | 61.91 | 57.78
WV015 | 57.20 | 53.39
WV016 | 59.90 | 55.90
WV017 | 57.00 | 53.20
WV018 | 57.00 | 53.20
WV027 | 58.19 | 54.32
WV034 | 57.00 | 53.20
WV035 | 58.19 | 54.32
WV037 | 59.96 | 55.96
WV039 | 57.20 | 53.39
WV042 | 57.20 | 53.39
WV045 | 57.00 | 53.20
WV046 | 57.00 | 53.20
WY002 | 83.27 | 77.73
WY003 | 67.20 | 62.72
WY004 | 100.33 | 93.65
WY013 | 67.20 | 62.72

[FR Doc. 2017-12952 Filed 6-20-17; 8:45 am]

BILLING CODE 4210-67-P